OVERSEAS PRIVATE INVESTMENT CORPORATION

Sunshine Notice—March 19, 2015 Board of Directors Meeting

TIME AND DATE: Thursday, March 19, 2015, 2 p.m. (Open Portion); 2:15 p.m. (Closed Portion).

PLACE: Offices of the Corporation, Twelfth Floor Board Room, 1100 New York Avenue NW., Washington, DC.

STATUS: Meeting OPEN to the Public from 2 p.m. to 2:15 p.m. Closed portion will commence at 2:15 p.m. (approx.)

MATTERS TO BE CONSIDERED:

1. President's Report

2. Tribute—Rajiv Shah

3. Tribute—Connie M. Downs

4. Minutes of the Open Session of the December 11, 2014 Board of Directors Meeting

FURTHER MATTERS TO BE CONSIDERED (Closed to the Public 2:15 p.m.):

1. Minutes of the Closed Session of the December 11, 2014 Board of Directors Meeting

2. Reports

3. Pending Projects

CONTACT PERSON FOR INFORMATION: Information on the meeting may be obtained from Connie M. Downs at (202) 336-8438.

Dated: February 27, 2015.
Connie M. Downs,
Corporate Secretary, Overseas Private Investment Corporation.

[FR Doc. 2015-04496 Filed 2-27-15; 4:15 pm]

BILLING CODE 3210-01-P